DEPARTMENT OF ENERGY

Federal Energy Regulatory Commission

Combined Notice of Filings #1

Take notice that the Commission received the following electric corporate filings:

Docket Numbers: EC15-153-000.

Applicants: PowerOne Corporation, ResCom Energy LLC.

Description: Supplement to June 2, 2015 Application under Section 203 of ResCom Energy LLC, et al.

Filed Date: 7/9/15.

Accession Number: 20150709-5300.

Comments Due: 5 p.m. ET 7/20/15.

Docket Numbers: EC15-165-000.

Applicants: Samchully Power & Utilities 1 LLC.

Description: Application for Authorization for Disposition of Jurisdictional Facilities and Request for Expedited Action of Samchully Power & Utilities 1 LLC.

Filed Date: 7/10/15.

Accession Number: 20150710-5103.

Comments Due: 5 p.m. ET 7/31/15.

Docket Numbers: EC15-166-000.

Applicants: Beech Ridge Energy LLC, Beech Ridge Energy II LLC, Beech Ridge Energy Storage LLC, Bishop Hill Energy LLC, Bishop Hill Energy III LLC, Bishop Hill Interconnection LLC, Buckeye Wind Energy LLC, California Ridge Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Invenergy TN LLC, Judith Gap Energy LLC, Prairie Breeze Wind Energy LLC, Prairie Breeze Wind Energy II LLC, Prairie Breeze Wind Energy III LLC, Sheldon Energy LLC, Spring Canyon Energy LLC, Stony Creek Energy LLC, Vantage Wind Energy LLC, Willow Creek Energy LLC, Wolverine Creek Energy LLC, Wolverine Creek Goshen Interconnection, LLC.

Description: Application for Authorization Under Section 203 of the Federal Power Act and Request for Waivers and Expedited Action of Beech Ridge Energy LLC, et. al.

Filed Date: 7/10/15.

Accession Number: 20150710-5105.

Comments Due: 5 p.m. ET 7/31/15.

Take notice that the Commission received the following electric rate filings:

Docket Numbers: ER13-1371-001; ER13-1371-002.

Applicants: GP Big Island, LLC.

Description: Supplement to the June 23, 2015 and July 1, 2015 GP Big Island, LLC tariff filings.

Filed Date: 7/10/15.

Accession Number: 20150710-5107.

Comments Due: 5 p.m. ET 7/31/15.

Docket Numbers: ER15-528-002.

Applicants: Golden Spread Electric Cooperative, Inc.

Description: Compliance filing: OATT Order No. 676-H Revised Second Compliance Filing to be effective 5/15/2015.

Filed Date: 7/10/15.

Accession Number: 20150710-5136.

Comments Due: 5 p.m. ET 7/31/15.

Docket Numbers: ER15-2146-000.

Applicants: PJM Interconnection, L.L.C., American Transmission Systems, Incorporated, Pennsylvania Electric Company, Trans-Allegheny Interstate Line Company, West Penn Power Company, The Potomac Edison Company, Monongahela Power Company, Metropolitan Edison Company.

Description: Section 205(d) Rate Filing: American Transmission Systems Inc., et al. Filing of New Service Agreements to be effective 9/7/2015.

Filed Date: 7/9/15.

Accession Number: 20150709-5196.

Comments Due: 5 p.m. ET 7/30/15.

Docket Numbers: ER15-2148-000.

Applicants: PJM Interconnection, L.L.C.

Description: Section 205(d) Rate Filing: Original Service Agreement No. 4189 (Queue Z2-012) to be effective 6/10/2015.

Filed Date: 7/10/15.

Accession Number: 20150710-5041.

Comments Due: 5 p.m. ET 7/31/15.

Docket Numbers: ER15-2149-000.

Applicants: Century Marketer LLC.

Description: Baseline eTariff Filing: MBRA Tariff to be effective 9/24/2015.

Filed Date: 7/10/15.

Accession Number: 20150710-5084.

Comments Due: 5 p.m. ET 7/31/15.

Docket Numbers: ER15-2150-000.

Applicants: PJM Interconnection, L.L.C., PPL Electric Utilities Corporation.

Description: Section 205(d) Rate Filing: PPL Electric submits Coordination Agreement No. 1015 with Borough of Catawissa to be effective 1/1/2014.

Filed Date: 7/10/15.

Accession Number: 20150710-5085.

Comments Due: 5 p.m. ET 7/31/15.

Docket Numbers: ER15-2151-000.

Applicants: PJM Interconnection, L.L.C., PPL Electric Utilities Corporation.

Description: Section 205(d) Rate Filing: PPL submits Coordination Agreement No. 1027 with Borough of Watsontown to be effective 1/1/2014.

Filed Date: 7/10/15.

Accession Number: 20150710-5086.

Comments Due: 5 p.m. ET 7/31/15.

Docket Numbers: ER15-2152-000.

Applicants: Niagara Mohawk Power Corporation, New York Independent System Operator, Inc.

Description: Section 205(d) Rate Filing: Niagara Mohawk filing of an amended CRA between NMPC and RG&E to be effective 5/29/2015.

Filed Date: 7/10/15.

Accession Number: 20150710-5088.

Comments Due: 5 p.m. ET 7/31/15.

Docket Numbers: ER15-2153-000.

Applicants: AEP Generation Resources Inc.

Description: Section 205(d) Rate Filing: Ohio Power Supply Agreement Cancellation to be effective 6/1/2015.

Filed Date: 7/10/15.

Accession Number: 20150710-5123.

Comments Due: 5 p.m. ET 7/31/15.

Take notice that the Commission received the following electric securities filings:

Docket Numbers: ES15-37-000.

Applicants: Michigan Electric Transmission Company, LLC.

Description: Supplement to June 22, 2015 Application under Section 204 of Michigan Electric Transmission Company, LLC.

Filed Date: 7/9/15.

Accession Number: 20150709-5302.

Comments Due: 5 p.m. ET 7/20/15.

Docket Numbers: ES15-38-000.

Applicants: MDU Resources Group, Inc.

Description: Application of MDU Resources Group, Inc. for authorization is issue short-term securities in the form of promissory notes and/or commercial paper.

Filed Date: 7/9/15.

Accession Number: 20150709-5303.

Comments Due: 5 p.m. ET 7/30/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 10, 2015.
Nathaniel J. Davis, Sr.,
Deputy Secretary.

[FR Doc. 2015-17422 Filed 7-15-15; 8:45 am]

BILLING CODE 6717-01-P